DEPARTMENT OF AGRICULTURE

Forest Service

Information Collection; Airplane Pilot Qualifications and Approval Record, Helicopter Pilot Qualifications and Approval Record, Airplane Data Record, and Helicopter Data Record

AGENCY: Forest Service, USDA.

ACTION: Notice; request for comment.

SUMMARY: In accordance with the Paperwork Reduction Act of 1995, the Forest Service is seeking comments from all interested individuals and organizations on the revision of a currently approved information collection, Airplane Pilot Qualifications and Approval Record, Helicopter Pilot Qualifications and Approval Record, Airplane Data Record, and Helicopter Data Record.

DATES: Comments must be received in writing on or before April 27, 2015 to be assured of consideration. Comments received after that date will be considered to the extent practicable.

ADDRESSES: Comments concerning this notice should be addressed to: USDA Forest Service, Assistant Director Aviation, Fire and Aviation Management, 1400 Independence Avenue SW., Mailstop 1107, Washington DC 20250-1107.

Comments also may be submitted via facsimile to 202-205-1401, phone 202-205-1483 or by email to: awhinaman@fs.fed.us.

The public may inspect comments received at USDA Forest Service, Fire and Aviation Management, 1400 Independence Avenue SW., Washington DC 20250, during normal business hours. Visitors are encouraged to call ahead to 202-205-1483 to facilitate entry to the building.

FOR FURTHER INFORMATION CONTACT: Art Hinaman, Assistant Director Aviation, 202-205-1483. Individuals who use telecommunication devices for the deaf (TDD) may call the Federal Relay Service (FRS) at 1-800-877-8339 twenty-four hours a day, every day of the year, including holidays.

SUPPLEMENTARY INFORMATION: Title: Airplane Pilot Qualifications and Approval Record, Helicopter Pilot Qualifications and Approval Record, Airplane Data Record and Helicopter Data Record OMB Number: 0596-0015.

Expiration Date of Approval: 5/31/2015.

Type of Request: Renewal with Revision.

Abstract: The Forest Service contracts with approximately 400 vendors a year for commercial aviation services utilized in resource protection and project management. In recent years, the total annual use of contract aircraft and pilots has exceeded 80,000 hours. In order to maintain an acceptable level of safety, preparedness, and cost-effectiveness in aviation operations, Forest Service contracts include rigorous qualifications for pilots and specific condition, equipment, and performance requirements for aircraft as aviation operations are conducted under extremely adverse conditions of weather, terrain, turbulence, smoke reduced visibility, minimally improved landing areas, and congested airspace around wildfires. To ensure agency contracting officers that pilots and aircraft used for aviation operations meet specific Forest Service qualifications and requirements for aviation operations, prospective contract pilots fill out one of the following Forest Service forms:

• FS-5700-20—Airplane Pilot Qualifications and Approval Record

• FS-5700-20a—Helicopter Pilot Qualifications and Approval Record

Contract Officers' Technical Representatives use forms:

• FS-5700-21—Airplane Data Record

• FS-5700-21a—Helicopter Data Record

When inspecting the aircraft for contract compliance. Based upon the approval(s) documented on the form(s), each contractor pilot and aircraft receives an approval card. The Forest Service personnel verify possession of properly approved cards before using contracted pilots and aircraft.

Information collected on these forms includes:

• Name.

• Address.

• Certification numbers.

• Employment history.

• Medical Certification.

• Airplane/helicopter certifications and specifications.

• Accident/violation history.

Without the collected information, Forest Service Contracting Officers, as well as Forest Service pilot and aircraft inspections, cannot determine if contracted pilots and aircraft meet the detailed qualification, equipment, and condition requirements essential to safe and effective accomplishment of Forest Service specified flying missions. Without a reasonable basis to determine pilot qualifications and aircraft capability, Forest Service employees would be exposed to hazardous conditions. The data collected documents the approval of contract pilots and aircraft for specific Forest Service aviation missions. Information will be collected and reviewed by Contracting Officers or their designated representatives, including aircraft inspectors, to determine whether the aircraft and/or pilot(s) meet all contract specifications in accordance with Forest Service Handbook (FSH) 5709.16, chapter 10, sections 15 and 16. Forest Service pilot and aircraft inspectors maintain the collected information in Forest Service regional offices. The Forest Service, at times, shares the information with the Department of the Interior, Aviation Management Directorate, as each organization accepts contract inspections conducted by the other.

Estimate of Annual Burden: 60 minutes.

Type of Respondents: Vendors/Contractors.

Estimated Annual Number of Respondents: 2100.

Estimated Annual Number of Responses per Respondent: 1.

Estimated Total Annual Burden on Respondents: 2100 hours.

Comment is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: February 13, 2015.
Patti Hirami,
Associate Deputy Chief, State and Private Forestry.

[FR Doc. 2015-03652 Filed 2-23-15; 8:45 am]

BILLING CODE 3411-15-P